DEPARTMENT OF TRANSPORTATION

Federal Highway Administration

[FHWA Docket No. FHWA-2016-0005]

Notice of Funding Opportunity for the Advanced Transportation and Congestion Management Technologies Deployment Program

AGENCY: Federal Highway Administration (FHWA), Department of Transportation (DOT).

ACTION: Notice of funding opportunity.

SUMMARY: The Fixing America's Surface Transportation (FAST) Act directs the DOT to establish an advanced transportation and congestion management technologies deployment (ATCMTD) initiative. The initiative provides grants to eligible entities to develop model deployment sites for large scale installation and operation of advanced transportation technologies to improve safety, efficiency, system performance, and infrastructure return on investment. The ATCMTD program is funded for fiscal years (FY) 2016 through 2020 at $60 million per FY from amounts authorized under sections 6002(a)(1), 6002(a)(2), and 6002(a)(4) of the FAST Act. This notice is the first of annual solicitations for the ATCMTD program and seeks applications from eligible entities to establish the initial set of model technology deployment sites. The DOT intends for these model technology deployments to help demonstrate how emerging transportation technologies, data, and their applications, which also link to Beyond Traffic 2045, can be effectively deployed and integrated with existing systems to provide access to essential services and other destinations. This also includes efforts to increase connectivity to employment, education, services and other opportunities; support workforce development; and contribute to community revitalization, particularly for disadvantaged groups (e.g., low income groups, persons with visible or hidden disabilities, elderly individuals, and minority populations). The DOT will make no fewer than five and no more than 10 awards of up to $12 million each depending on the number of awards and amounts set aside for DOT administrative expenses.

DATES: Applications must be submitted by 3:00 p.m., e.t., on or by June 3, 2016. The Grants.gov “Apply” function will open by March 29, 2016. Applications should be submitted through http://www.grants.gov.

ADDRESSES: Applications must be submitted through www.grants.gov. Only applicants who comply with all submission requirements described in this notice and submit applications through www.grants.gov will be eligible for award.

FOR FURTHER INFORMATION CONTACT: For further information concerning this notice, please contact the FHWA via email at ATCMTD@dot.gov. For questions about the ATCMTD program discussed herein, contact Mr. Robert Arnold, Director, FHWA Office of Transportation Management, telephone 202-366-1285 or via email at Robert.Arnold@dot.gov; or Mr. Egan Smith, Managing Director, Intelligent Transportation Systems (ITS) Joint Program Office, telephone 202-366-9224 or via email at Egan.Smith@dot.gov. For legal questions, please contact Mr. Adam Sleeter, Attorney-Advisor, FHWA Office of the Chief Counsel, telephone 202-366-8839 or via email at Adam.Sleeter@dot.gov. Business hours for the FHWA are from 8:00 a.m. to 4:30 p.m., e.t., Monday through Friday, except Federal holidays. A telecommunications device for the deaf (TDD) is available at 202-366-3993. Additionally, the notice, answers to questions, requests for clarification, and information about Webinars for further guidance will be posted at http://www.grants.gov/.

SUPPLEMENTARY INFORMATION:

Electronic Access

An electronic copy of this document may be downloaded from the Federal Register Web site at http://www.archives.gov and the Government Printing Office's database at http://www.access.gpo.gov/nara.

SUPPLEMENTARY INFORMATION: This notice solicits applications for the ATCMTD program for FY 2016 from eligible entities to develop model deployment sites for large scale installation and operation of advanced transportation technologies to improve safety, efficiency, system performance, and infrastructure return on investment. Each section of this notice contains information and instructions relevant to the application process for ATCMTD grants. The applicant should read this notice in its entirety to submit eligible and competitive applications.

Table of Contents

A. Program Description

B. Federal Award Information

C. Eligibility Information

D. Application and Submission Information

E. Application Review Information

F. Federal Award Administration Information

G. Federal Awarding Agency Contacts

H. Other Information

A. Program Description

Section 503(c)(4), title 23, United States Code (23 U.S.C. 503(c)(4)) directs the DOT to establish an ATCMTD initiative to provide grants to eligible entities to develop model deployment sites for large scale installation and operation of advanced transportation technologies to improve safety, efficiency, system performance, and infrastructure return on investment. This solicitation seeking applications from eligible entities will establish the initial set of model technology deployment sites. The deployment of technologies will:

• Reduce costs and improve return on investments, including through the enhanced use of existing transportation capacity;

• deliver environmental benefits that alleviate congestion and streamline traffic flow;

• measure and improve the operational performance of the applicable transportation network;

• reduce the number and severity of traffic crashes and increase driver, passenger, and pedestrian safety;

• collect, disseminate, and use real time transportation-related information to improve mobility, reduce congestion, and provide for more efficient and accessible transportation;

• monitor transportation assets to improve infrastructure management, reduce maintenance costs, prioritize investment decisions, and ensure a state of good repair;

• deliver economic benefits by reducing delays, improving system performance, and providing for the efficient and reliable movement of goods and services; or

• accelerate the deployment of vehicle-to-vehicle, vehicle-to-infrastructure, autonomous vehicles, and other technologies.

The DOT intends for these model technology deployments to help demonstrate how emerging transportation technologies, data, and their applications, which also link to Beyond Traffic 2045, can be effectively deployed and integrated with existing systems to provide access to essential services and other destinations.

The competitive ATCMTD program will promote the use of innovative transportation solutions. The deployment of these technologies will provide Congress and DOT with valuable real life data and feedback to inform future decisionmaking. The DOT will make no fewer than five and no more than 10 awards of up to $12 million each depending on the number of awards and amounts set aside for DOT administrative expenses.

B. Federal Award Information

Per 23 U.S.C. 503(c)(4)(I), for each fiscal year from 2016 through 2020, a maximum of $60 million, less up to $2 million for DOT administrative expenses, will be available to make five to 10 awards not exceeding $12 million each depending on the number of awards and the amount set aside for DOT administrative expenses. The planned award type is a cost-reimbursable cooperative agreement or an allocation to a State department of transportation (State DOT). The ATCMTD awards may be used for:

• Advanced traveler information systems;

• Advanced transportation management technologies;

• Infrastructure maintenance, monitoring, and condition assessment;

• Advanced public transportation systems;

• Transportation system performance data collection, analysis, and dissemination systems;

• Advanced safety systems, including vehicle-to-vehicle and vehicle-to-infrastructure communications, technologies associated with autonomous vehicles, and other collision avoidance technologies, including systems using cellular technology;

• Integration of intelligent transportation systems with the Smart Grid and other energy distribution and charging systems;

• Electronic pricing and payment systems; or

• Advanced mobility and access technologies, such as dynamic ridesharing and information systems to support human services for elderly and disabled individuals.

The DOT recognizes that each location has unique attributes, and each location's proposed deployment will be tailored to their vision and goals. Applications may be submitted for deploying any eligible technology. However, this section provides a framework for applicants to consider in the development of a proposed deployment by presenting the DOT's vision, goals, and focus areas.

The DOT's vision for the ATCMTD initiative is the deployment of advanced technologies and related strategies to address issues and challenges in safety, mobility, sustainability, economic vitality, and air quality that confront transportation systems owners and operators. The advanced technologies are integrated into the routine functions of the location or jurisdiction, and play a critical role in helping agencies and the public address their challenges. Management systems within transportation and across other sectors (e.g., human services, energy, and logistics) share information and data to communicate between agencies and with the public. These management systems provide benefits by maximizing efficiencies based on the intelligent management of assets and the sharing of information using integrated technology solutions. The advanced technology solutions and the lessons learned from their deployment are used in other locations, scaled in scope and size, to increase successful deployments and provide widespread benefits to the public and agencies.

The DOT's goals for the ATCMTD initiative include:

• Reduced costs and improved return on investments, including through the enhanced use of existing transportation capacity;

• Delivery of environmental benefits that alleviate congestion and streamline traffic flow;

• Measurement and improvement of the operational performance of the applicable transportation networks;

• Reduction in the number and severity of traffic crashes and an increase in driver, passenger, and pedestrian safety;

• Collection, dissemination and use of real time transportation related information to improve mobility, reduce congestion, and provide for more efficient and accessible transportation, including access to safe, reliable, and affordable connections to employment, education, healthcare, freight facilities, and other services;

• Monitoring transportation assets to improve infrastructure management, reduce maintenance costs, prioritize investment decisions, and ensure a state of good repair;

• Delivery of economic benefits by reducing delays, improving system performance and throughput, and providing for the efficient and reliable movement of people, goods, and services;

• Accelerated deployment of vehicle-to-vehicle, vehicle-to-infrastructure, automated vehicle applications, autonomous vehicles, and other advanced technologies;

• Integration of advanced technologies into transportation system management and operations;

• Demonstration, quantification, and evaluation of the impact of these advanced technologies, strategies, and applications towards improved safety, efficiency, and sustainable movement of people and goods; and

• Reproducibility of successful systems and services for technology and knowledge transfer to other locations facing similar challenges.

Although proposals are not limited to DOT priorities, the DOT is particularly interested in deployment programs and projects in the following areas:

• Transportation elements associated with Smart Cities: A Smart City is one that uses technology to connect transportation assets into an interactive network that allows communities to reduce congestion, support efficient goods movements, provide multimodal choices, keep travelers and freight logistics safe, reduce fuel consumption, protect the environment, respond to climate change, connect underserved communities, and support economic vitality. This focus area is for transportation technology deployments that would lead to a wider Smart City environment.

• Systemic applied pedestrian crossing technology: Pedestrian crossing technology encompasses crossing treatments with advanced equipment such as automated detectors that can sense pedestrians and provide them with safer crossing opportunities (e.g., extending crossing times or activating infrastructure or in-vehicle based displays and warnings). Such technologies offer significant benefits at midblock locations, which are particularly risky for pedestrians. Because pedestrian fatalities do not necessarily cluster in particular locations, it will likely be more effective to use a systemic application of pedestrian crossing improvements to improve safety. The DOT is interested in these technologies because pedestrians account for over 14 percent of annual roadway fatalities and over 70 percent of these fatalities occur in urban environments.

• Multimodal Integrated Corridor Management (ICM): ICM is the coordination of individual network operations of adjacent facilities across all government or other operations agencies that creates a unified, interconnected, and multimodal system capable of sharing cross-network travel management. All corridor transportation assets and information services (i.e., State, regional, county, and local) are brought to bear when congestion events beyond nominal threshold conditions trigger alerts. Through an ICM approach, transportation professionals manage the corridor as a multimodal system and make operational decisions for the benefit of the corridor as a whole. The DOT is interested in increasing deployment of ICM.

• Traffic signal data acquisition, analysis, and management: Deployment of technology that actively impacts the management, operation, and maintenance of traffic signal systems through real time data collection and signal control to meet congestion management and system responsiveness objectives. Data collection could be from infrastructure sensors and cameras, mobile and connected sources (in-vehicle and portable devices), or other external sources. Performance driven management of traffic systems is a proven approach to shifting resources from reactive to proactive processes to produce improved outcomes for internal and external stakeholders. The DOT has been working to accelerate the implementation of technologies that advance these strategies.

• Unified fare collection and payment system across transportation modes and jurisdictions: Technological advancements in payment systems allow convergence across both publicly-delivered and privately-delivered mobility services. However, field implementations have been achieved only sparingly and in small projects. Convergence will enhance consumer payment options and mode choices and forge partnerships among providers to achieve a seamless, accessible, and flexible transportation network across the Nation. The DOT is engaged in efforts which will assist in identifying technical, institutional, and policy solutions to achieve unified transportation payment systems.

• Incorporation of connected vehicle (CV) technology in public sector and first responder fleets: The use of CV technologies in infrastructure and integrated into public sector and first responder fleets can provide valuable system performance data, increased safety and response time via signal preemption capabilities and routing information, and better fleet operation. The DOT is interested in early deployment opportunities of CV technologies that increase safety and has public benefit.

• Weigh-in-Motion (WIM) facilities for advanced data collection: WIM technology allows for the capture and recording of heavy vehicles axle and gross weights while traveling at normal traffic speed without requiring the vehicle to stop. These deployments, either existing or new, would be capable of high-quality and shareable data as part of its standard operation to support infrastructure and safety management needs. They would provide strategic coverage for a State's highway freight network. The DOT is interested in this technology to provide more efficient movement of goods through the collection and sharing of data needed to make better policy decisions at the State and national level.

• Dynamic ridesharing: Dynamic ridesharing deploys the latest communications technologies and social network structures to bring drivers and riders together quickly and efficiently. This strategy can reduce the number of single passenger trips which reduces overall fuel consumption and greenhouse gas emissions. The DOT considers dynamic ridesharing as a potential step-change improvement to carpooling when brought up to scale.

C. Eligibility Information

1. Eligible Applicants

To be selected for an ATCMTD award, an applicant must be an eligible applicant. Eligible applicants are State or local governments, transit agencies, metropolitan planning organizations (MPO) representing a population of over 200,000, or other political subdivisions of a State or local government (such as publicly owned toll or port authorities), or a multijurisdictional group or consortia of research institutions or academic institutions. Partnership with the private sector or public agencies, including multimodal and multijurisdictional entities, research institutions, organizations representing transportation and technology leaders, or other transportation stakeholders is encouraged.

Typically, a consortium is a meaningful arrangement with all members involved in planning the overall direction of the group's activities and participating in most aspects of the group. The consortium is a long-term relationship intended to last the full life of the grant. Any application submitted by a sole research or academic institution that is not part of a consortium will not be considered for selection.

2. Cost Sharing or Matching

Cost sharing or matching is required, with the maximum Federal share being 50 percent of future eligible costs. Therefore, a minimum non-Federal cost share of 50 percent is required. Cost sharing or matching means the portion of project costs not paid by Federal funds. For a more complete definition, please see the Uniform Administrative Requirements, Cost Principles, and Audit Requirements for Federal Awards at part 200, title 2, Code of Federal Regulations (2 CFR 200), including section 200.306 on cost sharing or matching. Other Federal funds using their appropriate matching share may be leveraged for the deployment but cannot be considered as part of the ATCMTD matching funds, unless otherwise supported by statute.

3. Other

The ATCMTD recipients may use not more than five percent of the funds awarded each fiscal year to carry out planning and reporting requirements for the project.

The DOT encourages applicants to identify any project components that have independent utility and separately detail the costs and requested ATCMTD funding for each component in their applications. If the application identifies one or more independent project components, the application should clearly identify how each independent component addresses the selection criteria and produces benefits on its own, and describe how the full proposal, of which the independent component is a part, addresses the selection criteria.

D. Application and Submission Information

1. Address

Applicants may obtain application forms at grants.gov under the Notice of Funding Opportunity Number cited herein. The applicant must complete and submit all forms included in the application package for this notice as contained at www.grants.gov.

2. Content and Form of Application Submission

The application must include the Standard Form (SF) 424 (Application for Federal Assistance), SF 424A (Budget Information for Non-Construction Programs), SF 424B (Assurances for Non-Construction Programs), Grants.gov Lobbying Form, cover page, and the project narrative. The SFs are available online at http://www.grants.gov/web/grants/forms/sf-424-family.html. More detailed information about the cover page and project narrative follows.

a. Cover Page Including the Following Table:

Project name |
Previously Incurred Project Cost | $
Future Eligible Project Cost | $
Total Project Cost | $
ATCMTD Request | $
Total Federal Funding (including ATCMTD) | $
Are matching funds restricted to a specific project component? If so, which one? | Yes/No.
State(s) in which the project is located |
Is the project currently programmed in the: • Transportation Improvement Program (TIP) • Statewide Transportation Improvement Program (STIP) • MPO Long Range Transportation Plan • State Long Range Transportation Plan | Yes/No—please specify in which plans the project is currently programmed.

b. Project Narrative

The application must include information required for the DOT to determine that the project satisfies project requirements described in sections A, B, and C and to assess the selection criteria specified in section E.1. To the extent practicable, applicants should provide data and evidence of project merits in a form that is verifiable or publicly available. The DOT may ask any applicant to supplement data in its application, but expects applications to be complete upon submission.

The DOT recommends that the project narrative adhere to the following basic outline of a project description, staffing description, and funding description to clearly address the program requirements and make critical information readily apparent. In addition to a detailed statement of work, detailed project schedule, and detailed project budget, the project narrative should include a table of contents, maps, and graphics as appropriate to make the information easier to review. The DOT recommends that the project narrative be prepared with standard formatting preferences (i.e., a single-spaced document, using a standard 12-point font such as Times New Roman, with 1-inch margins). The project narrative may not exceed 25 pages in length, excluding cover pages and the table of contents. The only substantive portions that may exceed the 25-page limit are documents to support assertions or conclusions made in the project narrative or résumés of key staff described in the project narrative. If supporting documents are submitted, applicants must clearly identify within the project narrative the relevant portion of the project narrative that each supporting document supports.

c. Project description that includes the following:

(1) An introduction that provides a one- to two-page summary of the proposed technology deployment(s).

(2) A description of the entity that will be entering into the agreement with FHWA including:

(a) Membership of any partnership or entity proposed to carry out the deployment; and

(b) a description of how the entity will manage the program including project funding.

Applicants that are multijurisdictional groups or consortia of research or academic institutions do not necessarily have to be an existing organization or coalition but should show evidence that a cooperative agreement, memorandum of understanding, or other organizational mechanism can be executed in a reasonable timeframe after selection. (Note: A multijurisdictional group is any combination of State governments, local governments, metropolitan planning agencies, transit agencies, or other political subdivisions of a State for which each member of the group has signed a written agreement to implement the advanced transportation technologies deployment initiative across jurisdictional boundaries, and is an eligible entity under this paragraph.)

(3) A description of the geographic area or jurisdiction the deployment will service.

(4) A description of the real world issues and challenges to be addressed by the proposed technology deployments. Applicants should discuss how the proposed technology deployments address the goals of the initiative and any applicable technology focus area. Applicants should highlight any proposed linkages to Ladders of Opportunity pathways to jobs and economic opportunities as described in section B.

(5) A description of transportation systems and services to be included in project.

(6) A plan to deploy and provide for the long-term operation and maintenance of advanced transportation and congestion management technologies to improve safety, efficiency, system performance, and return on investment.

(7) A description of any challenges in the regulatory, legislative, or institutional environments or other obstacles to deployment.

(8) Quantifiable system performance improvements, such as:

(a) Reducing traffic-related crashes, congestion, and costs;

(b) optimizing system efficiency; and

(c) improving access to transportation services.

(9) Quantifiable safety, mobility, and environmental benefit projections such as data-driven estimates of how the project will improve the region's transportation system efficiency and reduce traffic congestion.

(10) Vision, goals, and objectives of the applicant for the technology deployment, including any future related deployments;

(11) Vision of the organization and goals, objectives, and activities to be pursued in addressing the identified issues and challenges.

(12) A plan for partnering with the private sector or public agencies, including multimodal and multijurisdictional entities, research institutions, organizations representing transportation and technology leaders, or other transportation stakeholders.

(13) A plan to leverage and optimize existing local and regional advanced transportation technology investments.

(14) A schedule for conducting the technology deployment and for completion of all proposed activities.

(15) Any support or leveraging of the ITS program or innovative technology initiatives (DOT ITS initiatives are described online at http://www.its.dot.gov).

d. Staffing description that includes the following:

(1) A description of the organization of staffing to manage and conduct the project, including identification of key personnel, organization, role, and responsibility.

(2) A primary point of contact (POC) and provide complete contact information for this individual.

e. Funding Description

Applications must include a breakdown of estimated costs across project work areas or tasks, including an identification of funding sources and amounts.

(Note: The maximum amount of funding requested from the ATCMTD program cannot exceed $12 million per year nor exceed 50 percent of the total cost of the activities proposed to be funded. The maximum amount that will be awarded will depend on the number of awards and the amount reserved for DOT administrative expenses. Selection of an application to receive grant funding in one fiscal year is not a commitment of any future funding. Applications will be solicited annually for competitively selecting grant recipients for that funding year.)

f. Additional Organization Information

In addition to the forms noted above, provide answers to the following organizational information questions in a pdf format:

(1) Identify any exceptions to the anticipated award terms and conditions as contained in section F (Federal Award Administration Information). Identify any preexisting intellectual property that you anticipate using during award performance, and your position on its data rights during and after the award period of performance.

(2) The use of a Dun and Bradstreet Data Universal Numbering System (DUNS) number is required on all applications for Federal grants or cooperative agreements. Please provide your organization's DUNS number in your budget application.

(3) A statement to indicate whether your organization has previously completed an A-133 Single Audit and, if so, the date that the last A-133 Single Audit was completed.

(4) A statement regarding conflicts of interest. The applicant must disclose in writing any actual or potential personal or organizational conflict of interest in its application that describes in a concise manner all past, present or planned organizational, contractual or other interest(s), which may affect the applicants' ability to perform the proposed project in an impartial and objective manner. Actual or potential conflicts of interest may include but are not limited to any past, present or planned contractual, financial, or other relationships, obligations, commitments or responsibilities, which may bias the applicant or affect the applicant's ability to perform the agreement in an impartial and objective manner. The Agreement Officer (AO) will review the statement(s) and may require additional relevant information from the applicant. All such information, and any other relevant information known to DOT, will be used to determine whether an award to the applicant may create an actual or potential conflict of interest. If any such conflict of interest is found to exist, the AO may disqualify the applicant or determine that it is otherwise in the best interest of the United States to contract with the applicant and include appropriate provisions to mitigate or avoid such conflict in the agreement pursuant to 2 CFR 200.112.

(5) A statement to indicate whether a Federal or State organization has audited or reviewed the applicant's accounting system, purchasing system, and/or property control system. If such systems have been reviewed, provide summary information of the audit/review results to include as applicable summary letter or agreement, date of audit/review, Federal or State POC for such review.

(6) Terminated Contracts. List any contract/agreement that was terminated for convenience of the Government within the past 3 years, and any contract/agreement that was terminated for default within the past 5 years. Briefly explain the circumstances in each instance.

(7) The applicant is directed to review 2 CFR 170 (http://www.ecfr.gov/cgi-bin/text-idx?c=ecfr&tpl=/ecfrbrowse/Title02/2cfr170_main_02.tpl), dated September 14, 2010, and Appendix A thereto; on reporting of information on subawards and executive total compensation. The applicant is directed to acknowledge in its application that it understands the requirement, has the necessary processes and systems in place, and is prepared to fully comply with the reporting described in the term if it receives funding resulting from this notice. The text of Appendix A will be incorporated in the award document as a General Term and Condition as referenced under section F (Federal Award Administration Information).

(8) Disclose any violations of Federal criminal law involving fraud, bribery, or gratuity violations. Failure to make required disclosures can result in any of the remedies described in 2 CFR 200.338 (remedies for noncompliance, including suspension or debarment). (See also 2 CFR part 180 and 31 U.S.C. 3321.)

3. Unique Identifier and System for Award (SAM)

The applicant is required to: (i) Be registered in SAM before submitting its application; (ii) provide a valid unique entity identifier in its application; and (iii) continue to maintain an active SAM registration with current information while it has an active Federal award, application, or plan under consideration by a Federal awarding agency.

The Federal awarding agency may not make a Federal award to an applicant until the applicant has complied with all applicable unique entity identifier and SAM requirements. If an applicant has not fully complied with the requirements by the time the Federal awarding agency is ready to make a Federal award, it may determine that the applicant is not qualified and use that determination as a basis for awarding another applicant.

4. Submission Dates and Times

a. Deadline

Applications must be submitted through www.Grants.gov by 3:00 p.m., e.t., on or by June 3, 2016, which is the date and time by which the FHWA must receive the full and completed application, including all required sections.

To submit an application through Grants.gov, applicants must:

(1) Obtain a DUNS number:

(2) Register with the SAM at www.sam.gov;

(3) Create a Grants.gov username and password; and

(4) The E-business Point of Contact (POC) at the applicant's organization must respond to the registration email from Grants.gov and login to authorize the POC as an Authorized Organization Representative (AOR). Please note that there can only be one AOR per organization.

Please note that the Grants.gov registration process usually takes 2-4 weeks to complete and late applications that are the result of failure to register or comply with Grants.gov applicant requirements in a timely manner will not be considered. For information and instruction on each of these processes, please see instructions at http://www.grants.gov/web/grants/applicants/applicant-faqs.html. If interested parties experience difficulties at any point during the registration or application process, please call the Grants.gov Customer Service Support Hotline at 800-518-4726, from 7:00 a.m. to 9:00 p.m., e.t., Monday through Friday.

b. Consideration of Application

Only applicants who comply with all submission deadlines described in this notice and submit applications through Grants.gov will be eligible for award. Applicants are strongly encouraged to make submissions in advance of the deadline.

Applicants interested in applying are encouraged to email ATCMTD@dot.gov no later than May 13, 2016, with applicant name, State in which project is located, approximate total project cost, amount of the ATCMTD grant request, and a two- to three-sentence project description. The DOT seeks this early notification of interest to inform its allocation of resources for application evaluations and to facilitate timely and efficient awards.

c. Late Applications

Applications received after the deadline will not be considered except in the case of unforeseen technical difficulties outlined below.

d. Late Application Policy

Applicants experiencing technical issues with Grants.gov that are beyond the applicant's control must contact ATCMTD@dot.gov prior to the application deadline with the user name of the registrant and details of the technical issue experienced. The applicant must provide:

(1) Details of the technical issue experienced;

(2) Screen capture(s) of the technical issues experienced along with corresponding Grants.gov grant tracking number;

(3) The legal business name for the applicant that was provided in the SF-424;

(4) The AOR name submitted in the SF-424;

(5) The DUNS number associated with the application; and

(6) The Grants.gov Help Desk Tracking Number.

To ensure a fair competition of limited discretionary funds, the following conditions are not valid reasons to permit late submissions: (1) Failure to complete the registration process before the deadline; (2) failure to follow Grants.gov instructions on how to register and apply as posted on its Web site; (3) failure to follow all of the instructions in this notice; and (4) technical issues experienced with the applicant's computer or information technology environment. After DOT staff review all information submitted and contact the Grants.gov Help Desk to validate reported technical issues, DOT staff will contact late applicants to approve or deny a request to submit a late application through Grants.gov. If the reported technical issues cannot be validated, late applications will be rejected as untimely.

E. Application Review Information

1. Criteria

The DOT will evaluate applications on the following criteria, which are of equal importance:

Technical Merit Criteria:

• Degree to which the proposed technology deployment aligns with program requirements and DOT goals.

• Maturity or readiness of the proposed technology(ies) to be deployed, and the likelihood of success of the applicant to deploy and sustain the proposed technology(ies), including the proposed approaches to addressing any regulatory and other obstacles to deployment.

• Scalability or portability of the proposed technology deployment to other jurisdictions.

• Commitment to evaluate the effectiveness (i.e., cost-benefit) of activities proposed.

• Clarity, quality, and completeness of the proposal.

Staffing Criteria:

• Degree to which the application includes a program/project management structure or organization that will successfully oversee the proposed technology deployment.

• Expertise and qualifications of key personnel for managing or conducting appropriate aspects of the proposed technology deployment through the period of performance.

The DOT will prioritize projects that also enhance personal mobility and accessibility. Such projects include, but are not limited to (1) investments that better connect people to essential services such as employment centers, health care, schools, education facilities, healthy food, and recreation; (2) remove physical barriers to access; (3) strengthen communities through neighborhood redevelopment; (4) mitigate the negative impacts of freight movement on communities; and (5) support workforce development, particularly for disadvantaged groups (e.g., low-income groups, the disabled, elderly individuals, and minority populations). The DOT may consider whether a project's design is likely to generate benefits for all users, including non-driving members of a community adjacent to or affected by the project.

2. Review and Selection Process

The DOT will review all eligible applications received before the application deadline. The ATCMTD process consists of a technical evaluation phase and senior review. In the technical evaluation phase, teams will determine whether each project satisfies statutory requirements and rate how well it addresses selection criteria. The senior review team will consider the applications and the technical evaluations to determine which projects to advance to the Secretary for consideration. Evaluations in both the technical evaluation and senior review phases will place projects into rating categories, not assign numerical scores. The Secretary will select the projects for award. The DOT reserves the right to use outside expertise and/or contractor support to perform application evaluation. A panel of Agency experts will conduct a risk assessment of the applicant prior to award.

The DOT will award the applications that are considered the most advantageous using the criteria cited above, subject to the results of an applicant risk assessment. In addition, per 23 U.S.C. 503(c)(4)(D)(i) and (ii), the DOT shall ensure, to the extent practicable, that grant recipients represent diverse geographic areas of the United States, including urban and rural areas, and that grant recipients represent diverse technology solutions.

3. Other Information

Prior to award, each selected applicant will be subject to a risk assessment required by 2 CFR 200.205. The DOT must review and consider any information about the applicant that is in the designated integrity and performance system accessible through SAM (currently the Federal Awardee Performance and Integrity Information System (FAPIIS)). An applicant may review information in FAPIIS and comment on any information about itself. The DOT will consider comments by the applicant, in addition to other information in FAPIIS, in making a judgment about the applicant's integrity, business ethics, and record of performance under Federal awards when completing the risk assessment. The DOT reserves the right to deny an award based on the results of the risk assessment.

F. Federal Award Administration Information

1. Federal Award Notices

Following the evaluation outlined in section E, the DOT will notify the selected applicants and announce the selected projects. Notice that an applicant has been selected as a recipient does not constitute approval of the application as submitted. Before the award, the DOT will contact the POC listed in the SF 424 to initiate negotiation of a project specific agreement. If the negotiations do not result in an acceptable submittal, the DOT reserves the right to terminate the negotiation and decline to fund the applicant.

2. Administrative and National Policy Requirements

All awards will be administered pursuant to the Uniform Administrative Requirements, Cost Principles and Audit Requirements for Federal Awards found in 2 CFR 200, as adopted by DOT at 2 CFR 1201. Applicable Federal laws, rules, and regulations set forth in 23 U.S.C. and 23 CFR also apply. For a list of the applicable laws, rules, regulations, executive orders, polices, guidelines, and requirements related to ATCMTD projects, please see http://www.fhwa.dot.gov/aaa/generaltermsconditions.cfm.

3. Reporting

a. Progress Reporting on Grant Activity

Each applicant selected for an ATCMTD grant must submit the Federal Financial Report (SF-425) on the financial condition of the project, its progress, and an Annual Budget Review and Program Plan to monitor the use of Federal funds and ensure accountability and financial transparency in the ATCMTD program.

b. Reporting of Matters Related to Integrity and Performance

If the total value of a selected applicant's currently active grants, cooperative agreements, and procurement contracts from all Federal awarding agencies exceeds $10 million at any time during the period of performance, then the applicant must maintain the currency of information reported to the SAM and made available in the FAPIIS about civil, criminal, or administrative proceedings described in paragraph 2 of the award terms and conditions. This is a statutory requirement under section 872 of Public Law 110-417, as amended (41 U.S.C. 2313). As required by section 3010 of Public Law 111-212, all information posted in the designated integrity and performance system on or after April 15, 2011, except past performance reviews required for Federal procurement contracts, will be publicly available.

c. Reporting to the Secretary

Per 23 U.S.C. 503(c)(4)(F), not later than 1 year after receiving an ATCMTD grant, and each year thereafter, the recipient shall submit a report to the Secretary that describes:

(1) Deployment and operational costs of the project compared to the benefits and savings the project provides; and

(2) how the project has met the original expectations projected in the deployment plan submitted with the application, such as:

(a) Data on how the project has helped reduce traffic crashes, congestion, costs, and other benefits of the deployed systems;

(b) data on the effect of measuring and improving transportation system performance through the deployment of advanced technologies;

(c) the effectiveness of providing real time integrated traffic, transit, and multimodal transportation information to the public to make informed travel decisions; and

(d) lessons learned and recommendations for future deployment strategies to optimize transportation efficiency and multimodal system performance.

G. Federal Awarding Agency Contacts

For further information or questions concerning this notice, please contact the FHWA via email at ATCMTD@dot.gov. For questions about the ATCMTD program discussed herein, contact Mr. Robert Arnold, Director, FHWA Office of Transportation Management, telephone 202-366-1285 or via email at Robert.Arnold@dot.gov; or Mr. Egan Smith, Managing Director, ITS Joint Program Office, telephone 202-366-9224 or via email at Egan.Smith@dot.gov. A TDD is available at 202-366-3993. Additionally, the notice, answers to questions, requests for clarification, and information about Webinars for further guidance will be posted at http://www.grants.gov/.

H. Other Information

1. Public Comment

The ATCMTD program is funded through FY 2020. This notice solicits applications for FY 2016 only. Because this is the first year implementing the ATCMTD program, FHWA invites interested parties to submit comments about this notice's contents, the FHWA's implementation choices within the legal bounds of the program, and suggestions for clarification in future ATCMTD solicitations. The FHWA seeks input on whether the information requested in applications is reasonable and clear and if additional merit criteria should be considered. The FHWA may consider the submitted comments and suggestions when developing subsequent ATCMTD notices and program guidance, but they will not affect the program's evaluation and selection process for FY 2016 awards. Applications or comments about specific projects should not be submitted to the docket. Any application submitted to the document will not be reviewed. Comments should be sent to docket number FHWA-2016-0005 by July 1, 2016. To the extent practicable, FHWA will consider late-filed comments.

2. Protection of Confidential Business Information

To the extent possible, all information submitted as part of or in support of any application shall use publicly available data or data that can be made public and methodologies that are accepted by industry practice and standards. If the application includes information the applicant considers to be a trade secret, confidential commercial information, or financial information, the applicant should do the following: (1) Note on the front cover that the submission “Contains Confidential Business Information (CBI)”; (2) mark each affected page “CBI”; and (3) highlight or otherwise denote the CBI portions. The DOT protects such information from disclosure to the extent allowed under applicable law. In the event DOT receives a Freedom of Information Act (FOIA) request for the information, it will follow the procedures described in its FOIA regulations at 49 CFR 7.17. Only information that is ultimately determined to be confidential under that procedure will be exempt from disclosure under FOIA.

Authority: 23 U.S.C. 503(c)(4).

Gregory G. Nadeau,
Administrator, Federal Highway Administration.

[FR Doc. 2016-07051 Filed 3-28-16; 8:45 am]

BILLING CODE 4910-22-P